DEPARTMENT OF COMMERCE

National Institute of Standards and Technology

A Preliminary Update From the Internet of Things Federal Working Group

AGENCY: National Institute of Standards and Technology, Department of Commerce.

ACTION: Notice; request for comment.

SUMMARY: The National Institute of Standards and Technology (NIST) seeks comments on the document A Preliminary Update from the Internet of Things Federal Working Group (Preliminary Update). The Preliminary Update was developed from input from the Federal Working Group and public information presented at the NIST IoT Advisory Board. It is intended to document the current state of the IoT Federal Working Group's approach to addressing the reporting requirements in the William M. (Mac) Thornberry National Defense Authorization Act for Fiscal Year 2021 (Pub. L. 116-283).

DATES: Comments in response to this notice must be received by 5:00 p.m. Eastern time on September 25, 2023.

ADDRESSES: Written comments may be submitted by mail to Barbara Cuthill, National Institute of Standards and Technology, 100 Bureau Drive, Stop 2000, Gaithersburg, MD 20899. Electronic submissions may be sent to iotfwg@nist.gov, and may be in any of the following formats: HTML, ASCII, Word, RTF, or PDF.

The Preliminary Update is available electronically from the NIST website at: IoT Federal Working Group | NIST.

FOR FURTHER INFORMATION CONTACT: For questions about this notice, contact: Barbara Cuthill, U.S. Department of Commerce, NIST, MS 2000, 100 Bureau Drive, Gaithersburg, MD 20899, telephone (301) 975-3273, email IoTFWG@nist.gov. Please direct media inquiries to NIST's Public Affairs Office at (301) 975-NIST.

SUPPLEMENTARY INFORMATION: In January, 2020, the Congress enacted the William M. (Mac) Thornberry National Defense Authorization Act for Fiscal Year 2021 (Pub. L. 116-283). Section 9204(b)(5) of this act established the Internet of Things Federal Working Group (IoTFWG) with NIST as the convenor of the working group. The specific duties assigned to the IoTFWG are:

Duties.—The working group shall—

(A) identify any Federal regulations, statutes, grant practices, budgetary or jurisdictional challenges, and other sector-specific policies that are inhibiting, or could inhibit, the development or deployment of the Internet of Things;

(B) consider policies or programs that encourage and improve coordination among Federal agencies that have responsibilities that are relevant to the objectives of this section;

(C) consider any findings or recommendations made by the IoT Advisory Board and, where appropriate, act to implement those recommendations;

(D) examine—

(i) how Federal agencies can benefit from utilizing the Internet of Things;

(ii) the use of Internet of Things technology by Federal agencies as of the date on which the working group performs the examination;

(iii) the preparedness and ability of Federal agencies to adopt Internet of Things technology as of the date on which the working group performs the examination and in the future; and

(iv) any additional security measures that Federal agencies may need to take to—

(I) safely and securely use the Internet of Things, including measures that ensure the security of critical infrastructure; and

(II) enhance the resiliency of Federal systems against cyber threats to the Internet of Things; and

(E) in carrying out the examinations required under subclauses (I) and (II) of subparagraph (D)(iv), ensure to the maximum extent possible the coordination of the current and future activities of the Federal Government relating to security with respect to the Internet of Things.

The Preliminary Update as presented, is intended to obtain broad comments and feedback to help the IoTFWG build recommendations for future federal actions to encourage the development and deployment of the Internet of Things.

Request for Comments

NIST seeks public comments on the Preliminary Update electronically from the NIST website at: IoT Federal Working Group | NIST. Written comments may be submitted by mail to Barbara Cuthill, National Institute of Standards and Technology, 100 Bureau Drive, Stop 2000, Gaithersburg, MD 20899. Electronic submissions may be sent to iotfwg@nist.gov .

Authority: 15 U.S.C. 272(b), (c), & (e); 15 U.S.C. 278g-3.

Alicia Chambers,
NIST Executive Secretariat.

[FR Doc. 2023-18251 Filed 8-23-23; 8:45 am]

BILLING CODE 3510-13-P